DEPARTMENT OF COMMERCE

National Oceanic and Atmospheric Administration

50 CFR Part 660

[Docket No. 220425-0104]

RIN 0648-BK43

Fisheries Off West Coast States; West Coast Salmon Fisheries; Federal Salmon Regulations for Overfished Species Rebuilding Plans

AGENCY: National Marine Fisheries Service (NMFS), National Oceanic and Atmospheric Administration (NOAA), Commerce.

ACTION: Final rule.

SUMMARY: NMFS is revising regulations that implement the Pacific Fishery Management Council's (Council) Pacific Coast Salmon Fishery Management Plan (FMP). This action removes a rebuilding plan for Sacramento River fall-run Chinook salmon (SRFC) from regulation, as this stock has been rebuilt and is no longer required to be managed under a rebuilding plan; and updates language to reflect the 2013 merger of NMFS' Northwest Region (NWR) and Southwest Region (SWR), which created NMFS' West Coast Region (WCR).

DATES: Effective May 31, 2022.

FOR FURTHER INFORMATION CONTACT: Shannon Penna, Fishery Management Specialist, at 562-676-2148, or Shannon.Penna@noaa.gov.

SUPPLEMENTARY INFORMATION: Regulations at 50 CFR part 660, subpart H implement the management of West Coast salmon fisheries under the FMP in the exclusive economic zone (3 to 200 nautical miles (5.6-370.4 kilometers)) off the coasts of the states of Washington, Oregon, and California.

In 2018, NMFS determined that SRFC was overfished under the Magnuson-Stevens Fishery and Conservation Management Act (MSA). The Council developed a rebuilding plan for SRFC, which it transmitted to NMFS on August 14, 2019. The Council recommended as the rebuilding plan the existing control rule for SRFC, which is described in the FMP and referenced in codified regulation at 50 CFR 660.410(c). The Council determined that the existing control rule met the MSA requirement to rebuild the stock as quickly as possible, taking into account the status and biology of any overfished stock and the needs of fishing communities (50 CFR 600.310(j)(3)(i)). NMFS approved and implemented the Council's recommended rebuilding plan for SRFC through rulemaking. 50 CFR 660.413(b), (85 FR 75920; November 27, 2020).

In 2021, NMFS determined that SRFC met the criteria in the FMP for being rebuilt and notified the Council (Letter from Barry A. Thom, NMFS West Coast Regional Administrator, to Charles A. Tracy, Pacific Fishery Management Council Executive Director, dated July 23, 2021). As the stock is rebuilt, it is no longer required to be managed under a rebuilding plan and the SRFC rebuilding plan should be removed from regulation to avoid confusion regarding the stock's status. Additionally, removing the SRFC rebuilding plan from regulation will avoid confusion should NMFS make a future determination that the SRFC stock is overfished again, in which case the MSA requires the Council to prepare and implement a rebuilding plan within two years of that determination (50 CFR 600.310(j)(2)(ii)). Leaving the current rebuilding plan in regulation could be confused as being the default rebuilding plan for SRFC, which is the intention of neither the Council nor of NMFS. Therefore, to avoid confusion, it is necessary to remove the existing SRFC rebuilding plan from regulation. Because the rebuilding plan adopted the existing harvest control rule for SRFC described in the Pacific Coast Salmon Fishery Management Plan, removing the rebuilding plan from regulation will not change the management of salmon fisheries that affect SRFC. NMFS determined that a 15-day comment period for the proposed rule was appropriate to allow adequate time for public comment while also allowing for the final rule to be in effect prior to the annual preseason management process for the 2022 ocean salmon fisheries, thereby avoiding confusion about the status of SRFC prior to the fishing season.

In 2013, NMFS implemented a realignment that merged the NWR and SWR to create the WCR. This change was made in order to more effectively manage resources, decision-making, and policy from a holistic West Coast perspective. NMFS is revising the regulations at 50 CFR 660, subpart H, to reflect the 2013 merger of NMFS' NWR and SWR by replacing mentions of NWR and SWR with WCR, and by replacing mention of the Northwest and Southwest Regional Administrators with West Coast Regional Administrator.

Public Comment

No comments were received during the public comment period.

Classification

NMFS is issuing this rule pursuant to section 305(d) of the MSA. The reason for using this regulatory authority is: Pursuant to section 305(d) of the MSA section, this action is necessary to carry out administrative actions, because it will revise outdated regulations.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This Final rule contains no information collection requirements under the Paperwork Reduction Act of 1995.

List of Subjects in 50 CFR Part 660

Fisheries, Fishing, and Recording and reporting requirements.

Dated: April 25, 2022.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.402, revise the definition of “Regional Administrator” to read as follows:

§ 660.402 Definitions.

* * * * *

Regional Administrator means the Administrator, West Coast Region, NMFS.

* * * * *

§ 660.408 [Amended]

3. In § 660.408, paragraph (m), footnote 2, remove “Director, Southwest” and add in its place “West Coast”.

4. In § 660.411, revise paragraph (c) to read as follows:

§ 660.411 Notification and publication procedures.

* * * * *

(c) Availability of data. The Regional Administrator will compile in aggregate form all data and other information relevant to the action being taken and will make them available for public review upon request. Contact information will be published annually in the Federal Register, posted on the NMFS website, and announced on the telephone hotline.

5. In § 660.413;

a. Remove and reserve paragraph (b); and

b. Revise Figure 1 to § 660.413.

§ 660.413 Overfished species rebuilding plans.

* * * * *

* * * * *

[FR Doc. 2022-09139 Filed 4-28-22; 8:45 am]

BILLING CODE 3510-22-P